DEPARTMENT OF ENERGY

U.S. Energy Information Administration

Agency Information Collection Extension

AGENCY: U.S. Energy Information Administration (EIA), U.S. Department of Energy (DOE).

ACTION: Notice and request for comments.

SUMMARY: EIA submitted an information collection request for a three-year extension, with no changes, as required by the Paperwork Reduction Act of 1995 to the Coal Markets Reporting System, OMB Control Number 1905-0167. The Coal Markets Reporting System (CMRS) consists of 5 surveys including, Form EIA-3 Quarterly Survey of Non-Electric Sector Coal Data, Form EIA-7A Annual Survey of Coal Production and Preparation, Form EIA-8A Annual Survey of Coal Stocks and Coal Exports, Form EIA-6 Emergency Coal Supply Survey (Standby), and Form EIA-20 Emergency Weekly Coal Monitoring Survey for Coal Burning Power Producers (Standby). The CMRS collects data on coal production, preparation, distribution, foreign trade, consumption, prices, quality, and stocks.

DATES: Comments on this information collection must be received no later than June 26, 2020. Written comments and recommendations for the proposed information collection should be sent within 30 days of publication of this notice to https://www.reginfo.gov/public/do/PRAMain. Find this particular information collection by selecting “Currently under 30-day Review—Open for Public Comments” or by using the search function.

FOR FURTHER INFORMATION CONTACT: Requests for additional information or copies of the forms and instructions should be directed to Ms. Sara Hoff at (202) 586-1242, or by email at Coal2020@eia.gov. The forms are available online at: https://www.eia.gov/survey/#coal.

SUPPLEMENTARY INFORMATION: This information collection request contains

(1) OMB No.: 1905-0167;

(2) Information Collection Request Title: Coal Markets Reporting System;

(3) Type of Request: Three-year extension without changes;

(4) Purpose: The CMRS program collects, evaluates, assembles, analyzes, and disseminates information on coal resource reserves, production, demand, technology, and related economic and statistical information. Aggregates of this collection are used to support public policy analyses of the coal industry, economic modeling, forecasting, coal supply and demand studies, and in guiding research and development programs. This information is used to assess the adequacy of coal resources to meet near and long term domestic demands and to promote sound policymaking, efficient markets, and public understanding of energy and its interaction with the economy and the environment.

(5) Annual Estimated Number of Respondents: 1,164.

• Form EIA-3 will consist of 397 respondents;

• Form EIA-7A will consist of 692 respondents;

• Form EIA-8A will consist of 48 respondents;

• Form EIA-6 (standby) will consist of 15 respondents;

• Form EIA-20 (standby) will consist of 12 respondents;

(6) Annual Estimated Number of Responses: 2,598.

(7) Annual Estimated Number of Burden Hours: 4,417.

(8) Annual Estimated Reporting and Recordkeeping Cost Burden: Additional costs to respondents are not anticipated beyond costs associated with response burden hours. The information is maintained in the normal course of business. The cost of the burden hours is estimated to be $353,978.38 (4,417 burden hours times $80.14 per hour). Other than the cost of burden hours, EIA estimates that there are no additional costs for generating, maintaining and providing the information.

Statutory Authority: 42 U.S.C. 7135, 15 U.S.C. 772(b), and 42 U.S.C. 7101 et seq.

Signed in Washington, DC, on May 21, 2020.
Thomas Leckey,
Assistant Administrator, Office of Energy Statistics, U.S. Energy Information Administration.

[FR Doc. 2020-11316 Filed 5-26-20; 8:45 am]

BILLING CODE 6450-01-P